DEPARTMENT OF COMMERCE

National Oceanic and Atmospheric Administration

Public Hearing on the Proposed St. Louis River Site for a Lake Superior National Estuarine Research Reserve in Wisconsin

AGENCY: The Estuarine Reserves Division, Office of Ocean and Coastal Resource Management, National Ocean Service, National Oceanic and Atmospheric Administration, U.S. Department of Commerce.

ACTION: Public Hearing Notice.

SUMMARY: Notice is hereby given that the University of Wisconsin—Extension, the WI Department of Administration's Coastal Management Program and the WI Department of Natural Resources with the support of the Estuarine Reserves Division of the Office of Ocean and Coastal Resource Management (OCRM), National Ocean Service (NOS), National Oceanic and Atmospheric Administration (NOAA), U.S. Department of Commerce, will hold a public hearing for the purpose of receiving comments on the preliminary recommendation that the St. Louis River Estuary be proposed for designation as a National Estuarine Research Reserve in Wisconsin.

The state agencies will hold a public hearing at 6 p.m. on April 3rd, 2008 at the Wisconsin Indianhead Technical College—Superior Conference Center, 600 North 21st Street, Superior, WI 78701.

The views of interested persons and organizations on the proposed site recommendation are solicited, and may be expressed orally and/or in written statements. An informational presentation on the St. Louis River Estuary and the National Estuarine Research Reserve System (NERRS) is scheduled for 7 p.m. All comments received at the hearing will be considered in a formal nomination by the state to NOAA.

The NERRS is a federal-state partnership that is administered by the National Oceanic and Atmospheric Administration (NOAA). The system protects more than 1.3 million acres of estuarine habitat for long-term research, monitoring, education and stewardship throughout the coastal United States. Established by the Coastal Zone Management Act of 1972, as amended, each reserve is managed by a lead state agency or university, with input from local partners. NOAA provides funding and national programmatic guidance.

The NERR site selection effort is a culmination of several years of local, grassroots support for a Wisconsin NERR on Lake Superior. The recommendation of the St. Louis site follows a year-long process to gather information about all of the freshwater estuaries on Lake Superior's south shore. The site selection process involved dozens of meetings with scientists, agency land managers, public officials and citizens.

FOR FURTHER INFORMATION CONTACT: Ms. Laurie McGilvray (301) 713-3155 extension 158, Estuarine Reserves Division, Office of Ocean and Coastal Resource Management, National Ocean Service, NOAA, 1305 East West Highway, N/ORM2, Silver Spring, MD 20910.

Dated: March 13, 2008.
David M. Kennedy,
Director, Office of Ocean and Coastal Resource Management.

Federal Domestic Assistance Catalog Number 11.420 (Coastal Zone Management) Research Reserves.

[FR Doc. E8-5457 Filed 3-18-08; 8:45 am]

BILLING CODE 3510-08-M